NATIONAL AERONAUTICS AND SPACE ADMINISTRATION

[Notice (10-012)]

NASA Advisory Council Exploration Committee Meeting

AGENCY: National Aeronautics and Space Administration.

ACTION: Notice of Meeting.

SUMMARY: In accordance with the Federal Advisory Committee Act, Public Law 92-463, as amended, the National Aeronautics and Space Administration announces a meeting of the NASA Advisory Council Exploration Committee.

DATES: Tuesday, February 16, 2010, 11:45 a.m.-5 p.m., and Wednesday, February 17, 2010, 9 a.m.-12 p.m. (all times are Eastern Standard Time).

ADDRESSES: National Aeronautics and Space Administration Headquarters, Room 8R40, 300 E Street, SW., Washington, DC 20546.

FOR FURTHER INFORMATION CONTACT: Ms. Jane Parham, Exploration Committee Administrative Officer, Mail Stop 7C27, National Aeronautics and Space Administration Headquarters, 300 E Street, SW., Washington, DC 20546, 202/358-1715.

SUPPLEMENTARY INFORMATION: The agenda topics for the meeting will include:

• Exploration Systems Mission Directorate (ESMD) Background.

• Results of Lunar Reconnaissance Orbiter (LRO) and Lunar CRater Observation and Sensing Satellite (LCROSS).

• ESMD Status Overview.

• Exploration Committee 2010 Work Plan Content Overview, Implementation, and Schedule.

The meeting will be open to the public up to the seating capacity of the room. It is imperative that the meeting be held on this date to accommodate the scheduling priorities of the key participants. Visitors will need to show a valid picture identification such as driver's license to enter the NASA Headquarters building (West Lobby—Visitor Control Center), and must state they are attending the NASA Advisory Council Exploration Committee meeting in Room 8R40. All non-U.S. citizens must fax a copy of their passport, and print or type their name, current address, citizenship, company affiliation (if applicable) to include address, telephone number, and their title, place of birth, date of birth, U.S. visa information to include type, number, and expiration date, U.S. Social Security Number (if applicable), Permanent Resident Alien card number and expiration date (if applicable), and place and date of entry into the U.S., fax to Jane Parham, NASA Advisory Council Exploration Committee Administrative Officer, FAX 202-358-3406, by no later than February 9, 2010. Non-U.S. citizens will need to show their Passport or Permanent Resident Alien card to enter the NASA Headquarters building. For questions, please call Jane Parham at (202) 358-1715.

Dated: January 22, 2010.
P. Diane Rausch,
Advisory Committee Management Officer, National Aeronautics and Space Administration.

[FR Doc. 2010-1734 Filed 1-27-10; 8:45 am]

BILLING CODE 7510-13-P